DEPARTMENT OF THE INTERIOR

Bureau of Land Management

[LLNM004000 L54200000.FR0000 LVDIG17ZGKP0 17X]

Notice of Application for a Recordable Disclaimer of Interest: Harris County, Texas

AGENCY: Bureau of Land Management, Department of the Interior.

ACTION: Notice.

SUMMARY: The Bureau of Land Management (BLM) received an application for a Recordable Disclaimer of Interest (RDI) from RKE-2 Real Estate, LLC, a Texas limited liability company, pursuant to Section 315 of the Federal Land Policy and Management Act of 1976 (FLPMA), as amended, and the implementing regulations for certain surface land located in Harris County, Texas. This Notice is intended to inform the public of the pending application, give notice of BLM's intention to grant the requested DRI, and provide a public comment period for the proposed Disclaimer of Interest.

DATES: Comments on this action should be received by January 9, 2018. Absent any valid objection, this Notice will become the final determination of the Department of the Interior and an RDI may be issued January 9, 2018.

ADDRESSES: Additional information pertaining to this application can be reviewed in case file TXNM136311 located in the BLM Oklahoma Field Office, 201 Stephenson Parkway, Room 1200, Norman, OK 73072-2037. Written comments must be sent to the Deputy State Director, Lands and Resources, BLM, New Mexico State Office, P.O. Box 27115, Santa Fe, NM 87502-0115.

FOR FURTHER INFORMATION CONTACT: John Ledbetter, Realty Specialist, BLM Oklahoma Field Office, (405) 579-7172, jledbetter@blm.gov. Persons who use a telecommunications device for the deaf (TDD) may call the Federal Relay Service (FRS) at 1-800-877-8339 to contact the above individual during normal business hours. The Service is available 24 hours a day, 7 days a week, to leave a message or question with the above individual. You will receive a reply during normal business hours.

SUPPLEMENTARY INFORMATION: RKE-2 Real Estate, LLC, submitted an application for a Disclaimer of Interest pursuant to Section 315 of the FLPMA, as amended, and the implementing regulations in 43 CFR subpart 1864. The purpose of this Disclaimer is to remove a cloud on the title of the surface estate of a parcel of land situated in Harris County, Texas.

By deed dated October 6, 1936, the United States Department of Agriculture obtained multiple tracts of land in Harris County, Texas. In describing the acquired land, the acquisition deed first cited the legal description as “Lots 1 to 16 inclusive of Block 18 of Highland Farms,” as well as multiple other tracts. Following this initial description of the lots and blocks, the deed continued by restating the description of the same area as “more particularly described by metes and bounds,” and went on to cite a lengthy metes and bounds description.

On January 1, 1944, the United States disposed of these acquired properties, except and reserving to the United States three-quarters of the oil, gas, coal, and other mineral rights. The resulting quitclaim deed cited the same metes and bounds description that was used in the 1936 acquisition deed, omitting the lots and blocks description. Thereafter, certain subsequent deeds, purporting to convey this same property, cited the lots and blocks descriptions included in the 1936 deed. It was apparently unknown at the time and did not become known until sometime later that these two descriptions of the same land from the 1936 deed did not match exactly. Due to the 1936 deed legal description inconsistency, the 1944 deed and other subsequent deeds were plagued with the same inconsistency in the description. The historical evidence provided by the applicant in the form of deeds and correctional documents demonstrate and support that the two descriptions used in the 1936 acquisition deed were not identical. This inconsistency remains to date and causes a cloud on the title.

The BLM New Mexico State Office Cadastral Survey Program has reviewed and compared the legal land descriptions of the 1936 and 1944 deeds. According to the Land Surveyor Report dated September 26, 2016, the land description in the two deeds do not appear to be identical. However, since the subdivision plat is lacking in detail, and the two descriptions purport to describe the same property, the metes and bounds description must be either based on a survey the BLM does not have access to, or is the wrong interpretation of the plat. The discrepancy in descriptions manifests itself as a 0.2813-acre triangular parcel within Lot 16, Block 18, Highland Farms, and creates a cloud on the title. The BLM believes that the intent of the 1944 disposition deed was to dispose of the entire surface estate of the lot acquired in 1936, and not to reserve this triangular parcel. Therefore, in order to remove the cloud on the title to the lot, the BLM intends to disclaim the land described as:

Harris, Texas

All of Lot 16, Block 18, Highland Farms according to the plat or map recorded in Volume 7, Page 60 of the Map Records of Harris County, Texas (surface estate only).

This proposed RDI does not address any mineral interest that may still be vested with the United States of America.

The public is hereby notified that comments may be submitted to the Deputy State Director, Lands and Resources at the address shown above within the comment period identified in the notice. Any adverse comments will be evaluated by the State Director who may modify or vacate this action and issue a final determination.

In the absence of any valid objection, this Notice will become the final determination of the Department of the Interior and a RDI may be issued 90 days from publication of this Notice.

Comments, including names and street addresses of commenters, will be available for public review at the BLM New Mexico State Office (see address above), during regular business hours, Monday through Friday, except Federal holidays. Before including your address, phone number, email address, or other personal identifying information in your comment, you should be aware that your entire comment—including your personal identifying information—may be made publicly available at any time. While you can ask us in your comment to withhold your personal identifying information from public review, we cannot guarantee that we will be able to do so.

Authority: 43 CFR 1864.2(a).

Melanie Barnes,
Deputy State Director, Lands and Resources.

[FR Doc. 2017-21957 Filed 10-10-17; 8:45 am]

BILLING CODE 4310-FB-P